NUCLEAR REGULATORY COMMISSION

[Docket No. 030-06583]

Environmental Assessment and Finding of No Significant Impact Related to Issuance of a License Amendment of U.S. Nuclear Regulatory Commission Byproduct Material License No. 45-09347-01 Commonwealth of Virginia; Division of Consolidated Laboratory Services

I. Summary

The U.S. Nuclear Regulatory Commission (NRC) is considering terminating Byproduct Material License No. 45-09347-01 to authorize the release of the licensee's facilities in Richmond, Virginia for unrestricted use and has prepared an Environmental Assessment (EA) and Finding of No Significant Impact (FONSI) in support of this action.

The NRC has reviewed the results of the final survey of the Commonwealth of Virginia, Division of Consolidated Laboratory Services facility in Richmond, Virginia. The Commonwealth of Virginia was authorized by the NRC from June 7, 1972, until the present to use Nickel 63 and Hydrogen 3 in gas chromatographs for sample analysis. In 1996, 1997, 1998, and 1999, routine leak tests disclosed minor contamination of Nickel 63 chromatograph inlets and exits. Each time the device was removed from service and returned to the manufacturer for repair. There was no evidence of contamination beyond the device. In July 2003, the Commonwealth of Virginia ceased operations with licensed materials at the One North Fourteenth Street location in Richmond, Virginia, and requested that the NRC amend the license to remove this place of use. The Commonwealth of Virginia has conducted surveys of the facility and determined that the facility meets the license termination criteria in Subpart E of 10 CFR Part 20. The NRC staff has evaluated the Commonwealth of Virginia's request and the results of the surveys, and has developed an EA in accordance with the requirements of 10 CFR part 51. Based on the staff evaluation, the conclusion of the EA is a FONSI on human health and the environment for the proposed licensing action.

II. Environmental Assessment

Introduction

The Commonwealth of Virginia has requested release, for unrestricted use, of their building located at One North Fourteenth Street, in Richmond, Virginia, as authorized for use by NRC License No. 45-09347-01. This license was issued on June 13,1963, and later amended to authorize the Fourteenth Street location as a place of use on June 7, 1972, and amended periodically since that time. NRC-licensed activities performed at the Fourteenth Street location in Richmond, Virginia were limited to sample analysis. These activities were typically performed on bench tops. No outdoor areas were affected by the use of licensed materials. Licensed activities ceased completely in July 2003, and the licensee requested release of the facility for unrestricted use. Based on the licensee's historical knowledge of the site and the condition of the facility, the licensee determined that only routine decontamination activities, in accordance with licensee radiation safety procedures, were required. The licensee surveyed the facility and provided documentation that the facility meets the license termination criteria specified in subpart E of 10 CFR part 20, “Radiological Criteria for License Termination.”

The Proposed Action

The proposed action is to amend NRC Radioactive Materials License Number 45-09347-01 to release the licensee's facility located at One Fourteenth Street in Richmond, Virginia, for unrestricted use. By letters dated July 1, 2003 and August 6, 2003, the Commonwealth of Virginia provided survey results which demonstrate that the Fourteenth Street location in Richmond, Virginia is in compliance with the radiological criteria for license termination in subpart E of 10 CFR part 20, “Radiological Criteria for License Termination.” No further actions will be required on the part of the licensee to remediate the facility.

Need for the Proposed Action

The purpose of the proposed action is to verify that residual radioactivity at the licensee's One Fourteenth Street building in Richmond, Virginia, permits release of the property for unrestricted use and termination of the license. The need for the proposed action is to comply with NRC regulations and the Timeliness Rule. The NRC is fulfilling its responsibilities under the Atomic Energy Act to make a decision on a proposed license amendment for release of a facility for unrestricted use that ensures protection of the public health and safety and environment.

Alternative to the Proposed Action

The only alternative to the proposed action of amending the license to release the Richmond, Virginia facility will result in violation of NRC's Timeliness Rule (10 CFR 30.36), which requires licensees to decommission their facilities when licensed activities cease. The licensee does not plan to perform any further activities with licensed materials at this location. Maintaining the areas under a license would reduce options for future use of the property.

The Affected Environment and Environmental Impacts

The Fourteenth Street facility in Richmond, Virginia is a four story pre-cast stone and concrete building. Work with radioactive materials was done on work benches located within laboratories in the building. The building is located within the central office district of downtown Richmond. This area consists primarily of corporate and professional offices located in three and four story buildings.

The NRC staff has reviewed the surveys performed by the Commonwealth of Virginia to demonstrate compliance with the 10 CFR 20.1402 license termination criteria. Based on its review, the staff has determined that the affected environment and environmental impacts associated with the decommissioning of the Commonwealth of Virginia facility are bounded by the impacts evaluated by the “Generic Environmental Impact Statement in Support of Rulemaking on Radiological Criteria for License Termination of NRC-Licensed Facilities” (NUREG-1496). The staff also finds that the proposed release for unrestricted use of the Commonwealth of Virginia facility is in compliance with 10 CFR 201402, “Radiological Criteria for Unrestricted Use.” The NRC has found no other activities in the area that could result in cumulative impacts.

Additionally, no other non-radiological impacts have been identified. The Virginia State Historic Preservation Officer was contacted and responded by letter dated February 24, 2003, with no objection. Also, the Nuclear Regulatory Commission (NRC) staff has determined that Section 7 consultation under the Endangered Species Act is not required because the proposed action is administrative/procedural in nature and will not affect listed species or critical habitat.

Agencies and Persons Contacted and Sources Used

This EA was prepared entirely by the NRC staff. The Virginia Department of Game and Inland Fisheries Information Services (VFWIS) was contacted by the licensee and had no objection. The Commonwealth of Virginia's Department of Historical Resources was contacted and responded by letter dated February 24, 2003, with no objection.

Conclusion

Based on its review, the NRC staff has concluded that the proposed action complies with 10 CFR part 20. NRC has prepared this EA in support of the proposed license termination to release the Commonwealth of Virginia facility located at One North Fourteenth Street, in Richmond, Virginia, for unrestricted use. On the basis of the EA, NRC has concluded that the environmental impacts from the proposed action are not expected to be significant and has determined that preparation of an environmental impact statement for the proposed action is not required.

List of Preparers

Orysia Masnyk Bailey—Materials Licensing/Inspection Branch 1, Division of Nuclear Materials Safety, Health Physicist.

List of References

1. NRC License No. 45-09347-01 inspection and licensing records.

2. Commonwealth of Virginia Amendment Request Letter from James L. Pearson, to NRC dated July 1, 2003. (ML031910443)

3. Commonwealth of Virginia Letter from Edwin F. Shaw, Jr. to NRC dated August 6, 2003. (ML032230412)

4. The Environmental Company, Inc. “Environmental Impact Report, Proposed Demolition of DCLS Laboratory & Motor Fuels Testing Laboratory & Construction of Parking Garage” dated November 2002.

5. Title 10 Code of Federal Regulations Part 20, Subpart E, “Radiological Criteria for License Termination.”

6. Federal Register Notice, Volume 65, No. 114, page 37186, dated Tuesday, June 13, 2000, “Use of Screening Values to Demonstrate Compliance With The Federal Rule on Radiological Criteria for License Termination.”

7. NRC. NUREG-1757 “Consolidated NMSS Decommissioning Guidance,” Final Report dated September 2002.

8. NRC. NUREG 1496 “Generic Environmental Impact Statement in Support of Rulemaking on Radiological Criteria for License Termination of NRC-Licensed Nuclear Facilities,” Final Report dated July 1997.

9. Commonwealth of Virginia Department of Historical Resources “Demolition of DCLS Laboratories and Construction of Parking Garage Richmond, Virginia DHR File # 2002-1618” To Mr. Chinh T. Vu, Department of General Services dated February 24, 2003.

III. Finding of No Significant Impact

Based upon the EA, the staff concludes that the proposed action will not have a significant impact on the quality of the human environment. Accordingly, the staff has determined that preparation of an environmental impact statement is not warranted.

IV. Further Information

The references listed above are available for public inspection and may also be copied for a fee at the NRC's Public Document Room, located at One White Flint North, 11555 Rockville Pike, Rockville, MD 20852. These documents are also available for public review through ADAMS, the NRC's electronic reading room, at: http://www.nrc.gov/reading-rm/adams.html. Any questions with respect to this action should be referred to Orysia Masnyk Bailey, Materials Licensing/Inspection Branch 1, Division of Nuclear Materials Safety, U.S. Nuclear Regulatory Commission, Region II, Suite 23T85, 61 Forsyth Street, SW., Atlanta, Georgia, 30303. Telephone 404-562-4739.

Dated at Atlanta, Georgia the 9th day of September, 2003.
For the Nuclear Regulatory Commission.
Douglas M. Collins,
Director, Division of Nuclear Materials Safety, Region II.

[FR Doc. 03-24091 Filed 9-18-03; 12:01 pm]

BILLING CODE 7590-01-P